ENVIRONMENTAL PROTECTION AGENCY

40 CFR Part 180

[EPA-HQ-OPP-2006-0321; FRL-8153-5]

Sethoxydim; Pesticide Tolerance Technical Amendment

AGENCY: Environmental Protection Agency (EPA).

ACTION: Final rule; technical amendment.

SUMMARY: EPA issued an amendment establishing tolerances for combined residues of sethoxydim; 2-[1-(ethoxyimino)butyl]-5-[2-(ethylthio)propyl]-3-hydroxy-2-cyclohexen-1-one; and its metabolites containing the 2-cyclohexen-1-one moiety (calculated as sethoxydim) in or on buckwheat grain, buckwheat flour, okra, borage seed, borage meal, fresh dillweed leaves, radish tops, turnip greens, and vegetable, root and tuber, group 1 (72 FR 8916, February 28, 2007). The tolerances were requested by Interregional Research Project No. 4 (IR-4) under the Federal Food, Drug, and Cosmetic Act (FFDCA), as amended by the Food Quality Protection Act of 1996 (FQPA). Because of a technical error with the structure of the regulatory table, the amendments adding new commodities to the sethoxydim tolerances could not be made. This technical amendment is being issued to correctly show the content of § 180.412(a).

DATES: This final rule is effective November 14, 2007.

ADDRESSES: EPA has established a docket for this action under docket identification (ID) number EPA-HQ-OPP-2006-0321. To access the electronic docket, go to http://www.regulations.gov, select “Advanced Search,” then “Docket Search.” Insert the docket ID number where indicated and select the “Submit” button. Follow the instructions on the regulations.gov web site to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket Facility telephone number is (703) 305-5805.

FOR FURTHER INFORMATION CONTACT: Barbara Madden, Registration Division (7505P), Office of Pesticide Programs, Environmental Protection Agency, 1200 Pennsylvania Ave., NW., Washington DC 20460-0001; telephone number: (703) 305-6463; e-mail address: madden.barbara@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using regulations.gov, you may access this Federal Register document electronically through the EPA Internet under the “Federal Register” listings at http://www.epa.gov/fedrgstr.

II. What Does this Technical Amendment Do?

In the Febrary 28, 2007 issue of the Federal Register, EPA issued an amendment establishing tolerances for combined residues of sethoxydim; 2-[1-(ethoxyimino)butyl]-5-[2-(ethylthio)propyl]-3-hydroxy-2-cyclohexen-1-one; and its metabolites containing the 2-cyclohexen-1-one moiety (calculated as sethoxydim) (72 FR 8916). The amendments removed the commodities: “Beet, garden'', “Beet, sugar, roots'',“Carrot, roots'' “Horseradish'', and “Tuberous and corm vegetablecrop subgroup''; and added borage, meal at 10 ppm; borage, seed at 6.0 ppm; buckwheat, flour at 25 ppm; buckwheat, grain at 19 ppm; dillweed, fresh leaves at 10; okra at 2.5 ppm; radish, tops at 4.5 ppm; turnip, greens at 5.0 ppm, and vegetable, root and tuber, group 1 at 4.0 ppm to the table in § 180.412(a). The tolerances were requested by Interregional Research Project No. 4 (IR-4) under the Federal Food, Drug, and Cosmetic Act (FFDCA), as amended by the Food Quality Protection Act of 1996 (FQPA). The Office of Federal Register removed those commodities that were designated for removal; however, because of a technical problem with the structure of the table as it appeared in the February 28, 2007 amendment to § 180.412(a), the Office of the Federal Register could not incorporate those commodities that were added. This technical amendment is being issued to correctly promulgate and show the content of § 180.412(a).

II. Why is this Technical Amendment Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making this technical amendment final without prior proposal and opportunity for comment, because the use of notice and comment procedures are unnecessary to effectuate this technical amendment. EPA finds that this constitutes good cause under 5 U.S.C. 553(b)(3)(B).

IV. Do Any of the Statutory and Executive Order Reviews Apply to this Action?

No. This action is a technical amendment to a previously published final rule and does not impose any new requirements. EPA's compliance with the statutes and Executive Order for the underlying rule is discussed in Unit VI. of the February 28, 2007, final rule (72 FR 8916).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: November 2, 2007.
Lois Rossi,
Director, Registration Division, Office of Pesticide Programs.

Therefore, 40 CFR part 180 is amended as follows:

PART 180—[AMENDED]

1. The authority citation for part 180 continues to read as follows:

Authority: 21 U.S.C. 321(q), 346a and 371.

2. In § 180.412, revise paragraph (a) to read as follows:

§ 180.412 Sethoxydim; tolerances for residues.

(a) General. Tolerances are established for combined residues of the herbicide 2-[1-(ethoxyimino)butyl]-5-[2-(ethylthio)propyl]-3-hydroxy-2-cyclohexen-1-one (CAS Reg. No. 74051-80-2) and its metabolites containing the 2-cyclohexen-1-one moiety (calculated as the herbicide) in or on the following commodities:

Commodity | Parts per million
Alfalfa, forage | 40.0
Alfalfa, hay | 40.0
Almond, hulls | 2.0
Apple, dry pomace | 0.8
Apple, wet pomace | 0.8
Apricot | 0.2
Asparagus | 4.0
Bean, dry, seed | 20.0
Bean, forage | 15.0
Bean, hay | 50.0
Bean, succulent | 15.0
Beet, sugar, molasses | 10.0
Beet, sugar, tops | 3.0
Blueberry | 4.0
Borage, meal | 10
Borage, seed | 6.0
Buckwheat, flour | 25
Buckwheat, grain | 19
Caneberry subgroup 13A | 5.0
Canola/rapeseed | 35.0
Canola/rapeseed, meal | 40.0
Cattle, fat | 0.2
Cattle, meat | 0.2
Cattle, meat byproducts | 1.0
Cherry, sweet | 0.2
Cherry, tart | 0.2
Citrus, molasses | 1.5
Citrus, dried pulp | 1.5
Clover, forage | 35.0
Clover, hay | 50.0
Coriander | 4.0
Corn, field, grain | 0.5
Corn fodder | 2.5
Corn forage | 2.0
Corn, sweet, forage | 3.0
Corn, sweet, kernel plus cob with husks removed | 0.4
Corn, sweet, stover | 3.5
Cotton, seed, soapstock | 15
Cotton, undelinted seed | 5.0
Cranberry | 2.0
Dillweed, fresh leaves | 10
Egg | 2.0
Flax, meal | 7
Flax, seed | 5.0
Flax, straw | 2.0
Fruit, citrus | 0.5
Fruit, pome | 0.2
Goat, fat | 0.2
Goat, meat | 0.2
Goat, meat byproducts | 1.0
Grape | 1.0
Grape, raisin | 2.0
Hog, fat | 0.2
Hog, meat | 0.2
Hog, meat byproducts | 1.0
Horse, fat | 0.2
Horse, meat | 0.2
Horse, meat byproducts | 1.0
Juneberry | 5.0
Lentil, seed | 30.0
Lingonberry | 5.0
Milk | 0.5
Nectarine | 0.2
Nut, tree, group 14 | 0.2
Okra | 2.5
Peach | 0.2
Pea, dry, seed | 40.0
Pea, field, hay | 40.0
Pea, field, vines | 20.0
Peanut | 25.0
Peanut, soapstock | 75.0
Pea, succulent | 10.0
Peppermint, tops | 30.0
Pistachio | 0.2
Potato, flakes | 8.0
Potato, granules | 8.0
Potato, processed potato waste | 8.0
Poultry, fat | 0.2
Poultry, meat | 0.2
Poultry, meat byproducts | 2.0
Radish, tops | 4.5
Salal | 5.0
Safflower | 15.0
Sheep, fat | 0.2
Sheep, meat | 0.2
Sheep, meat byproducts | 1.0
Soybean | 16.0
Soybean, hay | 10.0
Spearmint, tops | 30.0
Strawberry | 10.0
Sunflower, meal | 20.0
Sunflower, seed | 7.0
Tomato, concentrated products | 24
Tomato, dry pomace | 12.0
Turnip, greens | 5.0
Vegetable, brassica, leafy, group 5 | 5.0
Vegetable, bulb, group 3 | 1.0
Vegetable, cucurbit, group 9 | 4.0
Vegetable, fruiting, group 8 | 4.0
Vegetable, leafy, except brassica, group 4 | 4.0
Vegetable, root and tuger, group 1 | 4.0

* * * * *

[FR Doc. E7-22220 Filed 11-13-07; 8:45 am]

BILLING CODE 6560-50-S